DEPARTMENT OF HEALTH AND HUMAN SERVICES

Centers for Disease Control and Prevention

[60Day-20-20JC; Docket No. CDC-2020-0023]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Delta Impact Cooperative Agreement Evaluation Data Collection Instruments”, to collect information from recipients related to program evaluation activities for cooperative agreement CDC-RFA-CE18-1801: Domestic Violence Prevention Enhancement and Leadership Through Alliances (DELTA) Impact.

DATES: Written comments must be received on or before April 28, 2020.

ADDRESSES: You may submit comments, identified by Docket No. CDC-2020-0023 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please Note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Delta impact Cooperative Agreement Evaluation Data Collection Instruments—New—National Center for Injury Prevention and Control (NCIPC), Centers for Disease Control and Prevention (CDC).

Background and Brief Description

The Centers for Disease Control and Prevention (CDC) seeks OMB approval for three years for a new information collection request to collect information from all 10 recipients (State Domestic Violence Coalitions) and all 17 subrecipients (Coordinated Community Response teams) funded through CDC's Domestic Violence Prevention Enhancements and Leadership Through Alliances (DELTA) Impact Program cooperative agreement (NOFO CDC-RFA-CE18-1801). CDC will collect information from DELTA Impact recipients as part of its program evaluation to assess the implementation and impact of the NOFO and further understand the facilitators, barriers, and critical factors to implement specific violence prevention strategies and conduct program evaluation activities.

The findings from this data collection will be used for implementing and evaluating DELTA Impact prevention efforts, and will inform technical assistance provided to recipients to assist them in achieving the goals of the DELTA Impact program. This data collection will supplement other data to highlight recipient and subrecipients' experiences implementing their primary prevention efforts to prevent intimate partner violence and their related program evaluation activities. CDC requests approval for 47 burden hours annually. There is no cost to respondents other than their time.

Estimated Annualized Burden Hours
Type of respondents | Form name | Number of respondent | Number of responses per respondent | Average burden per response (in hours) | Total burden (in hours)
DELTA Impact Program Recipients State Domestic Violence Coalitions | Key Informant Interview—Project Lead (Att. 3) | 10 | 1 | 1 | 10
| Key Informant Interview—Evaluator (Att. 4) | 10 | 1 | 45/60 | 8
| Subrecipient Survey (Att. 5) | 17 | 1 | 30/60 | 9
| Prevention Infrastructure Assessment (Att. 6) | 10 | 2 | 1 | 20
Total |  |  |  |  | 47

Jeffrey M. Zirger,
Lead, Information Collection Review Office, Office of Scientific Integrity, Office of Science, Centers for Disease Control and Prevention.

[FR Doc. 2020-04082 Filed 2-27-20; 8:45 am]

BILLING CODE 4163-18-P